DEPARTMENT OF HEALTH AND HUMAN SERVICES

Administration for Children and Families

Office of Community Services; Compassion Capital Fund (CCF) Demonstration Program

Announcement Type: Initial.

Funding Opportunity Number: HHS-2005-ACF-OCS-EJ-0035.

CFDA Number: 93.009.

Due Date for Applications: Application is due June 13, 2005.

Executive Summary: The Administration for Children and Families (ACF), Office of Community Services (OCS) announces that applications will be accepted for new grants pursuant to the U.S. Department of Health and Human Services (HHS) Compassion Capital Fund (CCF) authorized under Section 1110 of the Social Security Act governing Social Services Research and Demonstration activities and the Departments of Labor, Health and Human Services, and Education, and Related Agencies Appropriations Act, 2005, Public Law 108-447.

Pursuant to this announcement, ACF will award funds to experienced organizations to deliver capacity-building services to faith-based and community organizations through the provision of training, technical assistance, and sub-awards.

Intermediary organizations will assist faith-based and community organizations with capacity-building activities in five critical areas: (1) Leadership development, (2) organizational development, (3) programs and services, (4) funding, and (5) community engagement. Capacity-building activities are designed to increase an organization's sustainability and effectiveness, enhance its ability to provide social services, diversify its funding sources, and create collaborations to better serve those most in need.

Priority Area I

I. Funding Opportunity Description

The Administration for Children and Families (ACF), Office of Community Services (OCS) announces that applications will be accepted for new grants pursuant to the U.S. Department of Health and Human Services (HHS) Compassion Capital Fund (CCF) authorized under Section 1110 of the Social Security Act governing Social Services Research and Demonstration activities and the Departments of Labor, Health and Human Services, and Education, and Related Agencies Appropriations Act, 2005, Pub. Law 108-447.

Pursuant to this announcement, ACF will award funds to experienced organizations to deliver capacity-building services to faith-based and community organizations through the provision of training, technical assistance, and sub-awards.

Intermediary organizations will assist faith-based and community organizations with capacity-building activities in five critical areas: (1) Leadership development, (2) organizational development, (3) programs and services, (4) funding, and (5) community engagement. Capacity-building activities are designed to increase an organization's sustainability and effectiveness, enhance its ability to provide social services, diversify its funding sources, and create collaborations to better serve those most in need.

A. Background

Faith-based and community organizations have a long history of providing an array of important services to people in need in the United States. These organizations possess unique strengths that the government cannot duplicate. As a result, they are well positioned to assist individuals and families with the most pressing social service needs.

In recognition of this history and ability, President Bush believes it is in the public's interest to broaden Federal efforts to work with faith-based and community organizations and has made improving funding opportunities for such organizations a priority. CCF is a key part of the effort to enhance and expand the participation of faith-based and community groups serving those in need. Intermediary organizations awarded funds under this announcement will serve as partners to both the Federal government and to the faith-based and community organizations that they assist. The intermediaries will represent a diverse set of affiliations, and will assist community-level organizations that have a range of service goals, target populations, affiliations, and beliefs.

Historically, the CCF program has identified the following social service priorities: homelessness, prisoners reentering the community, children of prisoners, at-risk youth, addicts, elders in need, families in transition from welfare to work and organizations that provide marriage education and preparation services to help couples who choose marriage for themselves, develop the skills and knowledge to form and sustain healthy marriages. Although the CCF program has addressed issues of at-risk youth in the past, this year, President Bush has specifically identified the need to focus on helping at-risk youth overcome the perilous risk of gang influence and involvement. Consequently, those interested in proposing at-risk youth activities are encouraged to propose projects that address these critical youth issues.

This announcement represents a new direction resulting from experience over the first three years of the CCF program. Consistent with the aim of a demonstration project, we intend to test innovative and creative approaches to grants in aid. Consequently, this announcement proposes a 17 month project and budget period. These grants will be funded to cover an entire project and budget period. In addition, it should be noted that the amount required to be awarded by the intermediary grantees to sub-awardees is 40 percent of the Federal share.

B. Program Purpose and Objectives

The goal of the Compassion Capital Fund (CCF) Demonstration Program is to help grassroots faith-based and community organizations maximize their social impact as they provide services to those most in need including the homeless, prisoners reentering the community, children of prisoners, at-risk youth, addicts, elders in need, families in transition from welfare to work and couples who choose marriage for themselves, to develop the skills and knowledge to form and sustain healthy marriages.

The CCF Demonstration Program provides funding for intermediary organizations in well-defined geographic locations with a proven track record of community involvement and experience in providing training and technical assistance to smaller faith- and community-based organizations in their communities. These intermediary organizations serve as a bridge between the Federal government and the grassroots faith-based and community organizations that the CCF Demonstration Program is designed to assist.

The CCF Demonstration Program does not fund direct social service provision. Rather, the CCF Demonstration Program funds capacity-building activities that produce measurable impact resulting in more sustainable organizations. By addressing issues that are critical to the long-term viability of non-profit organizations, faith-based and community organizations are better prepared and positioned to understand and meet the needs of their communities.

ACF encourages applications from organizations that propose to work with and have experience working with faith-based and community organizations that historically have not been supported by governmental funds. Intermediaries must be established organizations with well-developed connections to and working relationships with the non-profit community in the geographic area they propose to serve. In most cases, intermediaries or their partners will be physically located in the geographic area they propose to serve. In addition, for an intermediary organization to provide effective training and technical assistance in capacity building, they should demonstrate a cultural sensitivity that establishes credibility with their target audience of faith-based and community organizations in the geographic area they select.

Intermediary organizations will provide two services within their communities:

1. Capacity-building training and technical assistance to faith-based and community organizations; and

2. Financial support—through sub-awards—to some subset of the organizations receiving training and technical assistance.

Training and Technical Assistance

ACF seeks intermediary organizations with demonstrated ability to provide training and technical assistance to faith-based and community organizations in five critical areas of capacity building: (1) Leadership development, (2) organizational development, (3) programs/services, (4) funding, and (5) community engagement. Applicants must demonstrate the ability to provide training and technical assistance in all five areas of capacity building. This may be accomplished by a single organization, or through partnerships among several organizations. If organizations propose to collaborate to provide CCF intermediary services, they must have a well-developed working relationship and a history of working together prior to announcement of this funding opportunity.

Applicants must submit a coherent plan for providing training and technical assistance in all five of the critical areas of capacity building. Training and technical assistance activities must produce measurable results for the organizations served. Examples of the kinds of activities that relate to each element are listed below. This list is intended to be illustrative, not exhaustive:

Critical areas | Examples
1. Leadership Development | —Board Composition and Function —Staff Professional and Career Development —Volunteers Training and Development —Succession Planning
2. Organizational Development | —Board Governance —Systems: Management, Human Resources, Financial, Information Technology, Planning —Policies and Procedures —Fiscal Controls —Comprehensive Communications Strategy —Non-profit Incorporation
3. Programs/Services | —Program Design that expands or enhances program or service delivery —Program Monitoring —Evaluating Program Outcomes
4. Funding | —Diversified Funding Sources —Financial Sustainability —Donor Development
5. Community Engagement | —Community Asset Mapping —Level of Community Participation —Community Needs Assessment —Leveraging Resources/Collaborative Relationships

Intermediaries must demonstrate their ability to correctly assess the highest impact capacity building needs of the organizations they propose to serve. Applicants must describe the process they will use to assist faith-based and community organizations with the identification of organizational needs. Applicants must include a detailed description of pre- and post-assessment methods to be used to determine the measurable impact of training, technical assistance and sub-award activities provided.

For purposes of this program announcement, training will refer to group-based adult education and skill-building activities (e.g., workshops); technical assistance will refer to consultation that is specifically customized or tailored to the needs of particular faith-based and community organizations.

Technical assistance must be provided on a long-term, ongoing basis, rather than through single or short-term contacts (such as a nationwide series of seminars or conferences). The training and technical assistance strategy must address a minimum of two (2) of the identified needs for each faith-based and community organization served; although, it is expected that in aggregate the faith-based and community organizations served will represent the full range of all five critical areas. A minimum of fifty percent (50 percent) of training and technical assistance provided by an intermediary must be in the form of direct and individualized technical assistance to address the identified priority needs of the faith-based and community organization (i.e., “one-on-one” assistance to the organization's leadership, key staff and/or board). It is expected that intermediaries will deliver both training and technical assistance. Training conferences and workshops may be part of an applicant's plan, but they must not be its sole focus. Training and technical assistance activities funded under CCF are to be offered at no cost to interested faith-based and community organizations.

Sub-Awards

CCF intermediaries will be required to issue sub-awards in an amount representing at least forty percent (40 percent) of the total Federal funds requested. (Please see section V.1 for a detailed description regarding sub-award strategy).

ACF expects to work closely with organizations that receive funding to ensure that CCF monies are used appropriately and in the most effective manner possible. Intermediary organizations that receive CCF awards will be required to develop, with guidance from and in consultation with ACF, a detailed plan to issue sub-awards within 60 days of receipt of an award under this announcement. Please note that this plan will be based on the sub-award strategy outlined in Section V.1. ACF will work with grantees to develop their sub-award strategy into a concrete sub-award plan. ACF must review and approve this plan prior to the issuance of any sub-awards using Federal funds awarded under this announcement. Intermediary organizations must report on the use of funds for sub-awards. Intermediary organizations will also be required to develop, with guidance from and in consultation with ACF, an evaluation plan within six months of receipt of an award for working with sub-awardees to develop outcome measures and to evaluate the activities supported by the sub-awards.

Approved applicants must be willing to work closely with ACF, and any entities funded by ACF, to coordinate, assist, or evaluate the activities of the intermediary organizations providing technical assistance and issuing sub-awards.

Conditions for the Cooperative Agreement: Organizations selected to receive an award will be responsible for implementing activities described in the project description of the approved application; developing and implementing work plans that will ensure that the services and activities included in the approved application address the needs of faith-based and community organizations in an efficient, effective, and timely manner; submitting for Federal review and approval, within 60 days of receipt of the Financial Assistance Award and prior to the issuance of any such sub-awards, plans and procedures for the issuance of sub-awards; submitting regular semi-annual financial status and progress reports that describe project activities; working cooperatively and collaboratively with ACF officials, other Federal agency officials conducting related activities, the other intermediary organizations approved under the CCF program, and other entities or organizations contracted by ACF to assist in carrying out the purposes of the Compassion Capital Fund program; ensuring that key staff attend and participate in ACF sponsored workshops and meetings, including the initial orientation meeting; and ensuring that Compassion Capital Funds are not used to support religious practices such as religious instruction, worship, prayer or proselytization.

Proposed budgets should include the cost of travel-related expenses for two key personnel with responsibility for the CCF award to attend a two-day orientation workshop with Federal officials in Washington, DC. This meeting will focus on orientation to Federal objectives for the project; information about related activities supported by HHS and other Federal agencies; Federal grants management requirements; and coordination between and among the approved intermediary organizations and other entities funded by ACF to be involved in the CCF initiative.

Direct Federal grants, sub-award funds, or contracts under the Compassion Capital Fund Demonstration Program shall not be used to support inherently religious activities such as religious instruction, worship, or proselytization. Therefore, organizations must take steps to separate, in time or location, their inherently religious activities from the CCF-funded services. Regulations pertaining to the Equal Treatment For Faith-Based Organizations, which includes the prohibition against Federal funding of inherently religious activities, can be found at either 45 CFR 87.1 or the HHS Web site at http://www.os.dhhs.gov/fbci/waisgate21.pdf.

Grantees may be asked to participate in a national evaluation of the Compassion Capital Fund program. The program will cooperate with any research or evaluation efforts sponsored by the Administration for Children and Families (ACF).

II. Award Information

Funding Instrument Type: Cooperative Agreement.

Substantial Federal Involvement With Cooperative Agreement

A cooperative agreement is Federal assistance in which substantial Federal Involvement is anticipated. Responsibilities of Federal Staff and the successful applicants are negotiated prior to an award. The grantees funded under this announcement will work collaboratively with the CCF program office on the development of products and prior to finalization and dissemination will submit products such as training and technical assistance plans and sub-award plans to the CCF program office for review and approval. Please see Section I. Funding Opportunity Description for a detailed description of the cooperative agreement.

Anticipated Total Priority Area Funding: $16,900,000.

Anticipated Number of Awards: Up to 17.

Ceiling on Amount of Individual Awards per budget period: None.

Average Projected Award Amount: $1,000,000.

Length of Project Periods: 17-month project with a 17-month budget period.

This announcement is inviting applications for project periods up to 17 months. Awards, however, will be made on a competitive basis, for a 17-month budget period.

III. Eligibility Information

1. Eligible Applicants

State governments

County governments

City or township governments

Special district governments

State controlled institutions of higher education

Native American tribal governments (federally recognized)

Non-profits having a 501(c)(3) status with the IRS, other than institutions of higher education

Non-profits that do not have a 501(c)(3) status with the IRS, other than institutions of higher education

Private institutions of higher education

For-profit organization other than small businesses

Small businesses

Faith-based and community organizations

Additional Information on Eligibility: Fiscal year (FY) 2003 and (FY) 2004 Compassion Capital Fund Demonstration Program grantees are ineligible to apply. Fiscal year (FY) 2002 grantees are eligible to apply, but will not be awarded additional points or given preferential treatment for past CCF experience.

2. Cost Sharing/Matching

Yes.

Matching/Cost-Sharing

Grantees must provide at least 20 percent of the total approved cost of the project. The total approved cost of the project is the sum of the ACF share and the non-Federal share. The non-Federal share may be met by cash or in-kind contributions, although applicants are encouraged to meet their match requirements through cash contributions. Therefore, a project requesting $500,000 in Federal funds (based on an award of $500,000 per budget period) must provide a match of at least $125,000 (20% of the total approved project costs). Grantees will be held accountable for commitments of non-Federal resources even if over the amount of the required match. Failure to provide the amount will result in disallowance of Federal dollars.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

Disqualification Factors

Any application received after 4:30 p.m. eastern time on the deadline date will not be considered for competition.

IV. Application and Submission Information

1. Address to Request Application Package

U.S. Department of Health and Human Services (HHS), Attention: Eduardo Hernandez, Administration for Children and Families Office of Community Services, Operations Center, Compassion Capital Fund Demonstration Program, 1515 Wilson Boulevard, Suite 100, Arlington, Virginia 22209. Phone: 1-800-281-9519. E-mail: OCS@lcgnet.com.

2. Content and Form of Application Submission

A. Required Format of Application

You may submit your application to us in either electronic or paper format.To submit an application electronically, please use the www.Grants.gov/Apply site. If you use Grants.gov, you will be able to download a copy of the application package, complete it off-line, and then upload and submit the application via the Grants.gov site. ACF will not accept grant applications via e-mail or facsimile transmission.

Please note the following if you plan to submit your application electronically via Grants.gov

• Electronic submission is voluntary, but strongly encouraged.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

General. The application must be double-spaced and single-sided on 8 × 11 plain white paper, with 1″ margins on all sides. The application must use Times New Roman 12 point font or Arial 12 point font.

The Table of Contents must not exceed one (1) page.

The Project Abstract must not exceed one (1) page.

The Project Narrative must not exceed twenty-five (25) pages. Pages submitted beyond the first 25 in the application's Project Narrative section will be removed prior to panel review.

The Appendix must not exceed twenty (20) pages. The Appendix includes the sample assessment tool(s) to be used to assist organizations served in identifying organizational needs in the five critical capacity-building areas, cost share commitment letters, and any other additional supporting documentation.

All pages of the application must be sequentially numbered. The Budget, Narrative Budget Justification, Standard Forms for Assurances, Certifications, Disclosures, and cost-share letters are not included in the Project Narrative and Appendix page limitations.

Applicants are requested not to send pamphlets, brochures, or other printed material along with their applications as these pose copying difficulties. These materials, if submitted, will not be included in the review process. In addition, applicants should not submit any additional letters of endorsement beyond any that may be required.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: www.acf.hhs.gov/programs/ofs/forms.htm.

Please see Section V.1. Criteria, for instructions on preparing the full project description.

3. Submission Dates and Times

Explanation of Due Dates: The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist: You may use the checklist below as a guide when preparing your application package.

What to submit | Required content | Required form or format | When to submit
Table of Contents | See Section IV.2 | See Section IV.2 | By application due date.
Project Narrative | See Section IV.2 | See Section IV.2 | By application due date.
SF 424 | See Section IV.2 | Please visit http://www.acf.hhs.gov/programs/ofs/forms.htm for a full description. | By application due date.
SF 424A | See Section IV.2 | Please visit http://www.acf.hhs.gov/programs/ofs/forms.htm for a full description. | By application due date.
SF 424B | See Section IV.2 | Please visit http://www.acf.hhs.gov/programs/ofs/forms.htm for a full description. | By application due date.
Training and Technical Assistance Plan | See Section I. and V.1 | See Section I. and V.1. | By application due date.
Certification regarding Lobbying and associated Disclosure of Lobbying Activities (SF LLL) | See Section IV.2 | Please visit http://www.acf.hhs.gov/programs/ofs/forms.htm for a full description. | By Time of Award.
Certification regarding Environmental Tobacco Smoke | See Section IV. 2 | Please visit http://www.acf.hhs.gov/programs/ofs/forms.htm for a full description. | By Time of Award.
Proof of Non-Profit Status | See Section III.3 | See Section III.3 | By Time of Award.

Additional Forms: Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

What to submit | Required content | Location | When to submit
Survey for Private, Non-Profit Grant Applicants | See form | May be found on www.acf.hhs.gov/programs/ofs/forms.htm | By application due date.

4. Intergovernmental Review:

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions elected to participate in E.O. 12372 can be found on the following URL: http://www.whitehouse.gov/omb/grants/spoc.html.

A list of the Single Points of Contact for each State and Territory is included with the application materials for this announcement.

5. Funding Restrictions

Fiscal year (FY) 2003 and (FY) 2004 Compassion Capital Fund Demonstration Program grantees are ineligible to apply.

6. Other Submission Requirements

Submission by Mail: An applicant must provide an original application with all attachments, signed by an authorized representative and two copies. Please see Section IV.3 for an explanation of due dates. Applications should be mailed to:

U.S. Department of Health and Human Services (HHS),Administration for Children and Families Office of Community Services,Compassion Capital Fund Demonstration,1815 North Fort Meyer Drive, Suite 300,Arlington, Virginia 22209,Attention: Attention: Barbara Ziegler Johnson.

Hand Delivery: An applicant must provide an original application with all attachments signed by an authorized representative and two copies. Please see Section IV.3 for an explanation of due dates. Applications should be delivered to:

U.S. Department of Health and Human Services (HHS),Administration for Children and Families Office of Community Services,Compassion Capital Fund Demonstration Program,1815 North Fort Meyer Drive, Suite 300,Arlington, Virginia 22209,Attention: Attention: Barbara Ziegler Johnson.

Electronic Submission: www.Grants.gov. Please see section IV. 2 Content and Form of Application Submission, for guidelines and requirements when submitting applications electronically.

V. Application Review Information

The Paperwork Reduction Act of 1995 (Pub. L. 104-13)

Public reporting burden for this collection of information is estimated to average 20 hours per response, including the time for reviewing instructions, gathering and maintaining the data needed and reviewing the collection information.

The project description is approved under OMB control number 0970-0139 which expires 4/30/2007.

An agency may not conduct or sponsor, and a person is not required to respond to, a collection of information unless it displays a currently valid OMB control number.

The following are instructions and guidelines on how to prepare the “Project Summary/Abstract” and “Full Project Description” sections of the application. Under the evaluation criteria section, note that each criterion is preceded by the generic evaluation requirement under the ACF Uniform Project Description (UPD).

1. Criteria

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Results or Benefits Expected

Identify the results and benefits to be derived.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Evaluation Criteria: The following evaluation criteria appear in weighted descending order. The corresponding score values indicate the relative importance that ACF places on each evaluation criterion; however, applicants need not develop their applications precisely according to the order presented. Application components may be organized such that a reviewer will be able to follow a seamless and logical flow of information (e.g., from a broad overview of the project to more detailed information about how it will be conducted).

In considering how applicants will carry out the responsibilities addressed under this announcement, competing applications for financial assistance will be reviewed and evaluated against the following criteria:

Organizational Profiles (30 Points)

(a) Past Experience (15 Points). An application will be evaluated on the extent to which it demonstrates that the applicant has a proven track record in providing training and technical assistance to faith-based and community organizations, including concrete examples with specific dates of training and technical assistance that the applicant has provided relating to the five critical elements of capacity building: (1) Leadership development, (2) organizational development, (3) programs/services, (4) funding, and (5) community engagement. If organizations propose to collaborate to provide Compassion Capital Fund (CCF) intermediary services, the application must demonstrate the extent to which these organizations possesses well-developed working relationships and a history of working together prior to announcement of this funding opportunity. Intermediaries or their partners should be physically located in the geographic area they propose since intermediaries are expected to develop ongoing relationships with the grassroots organizations they serve.

(b) Organizational Capability (5 Points). An application will be evaluated on the extent to which it describes how the organization is well positioned to support the project and how the proposed project fits into the structure of the applicant organization. The applicant should provide evidence of facilities, fiscal controls, and other resources that are adequate to achieve project goals. The applicant must address the issue of how their overall organization is positioned to support this project, and how this project may impact other (non-CCF) activities which the organization plans to undertake.

(c) Project Management Structure and Staffing (10 Points): An application will be evaluated on the extent to which it includes a listing of key positions required to carry out the project, the individuals proposed to fill the positions, and a detailed description of the kind of work they will perform. Applications will be evaluated on the extent to which evidence is provided demonstrating the staff's skill, knowledge, and experience in carrying out their assigned activities such as evidence that demonstrates not only staff's good technical skills, but also a clear record of working with faith-based and community organizations. Applications will be evaluated on the extent to which any proposed partnerships with other organizations for purposes of this CCF application are clearly defined and documented: e.g. significant contributions to the proposed project by each partner; a formal agreement among parties; defined roles and responsibilities appropriate to their natural strengths; shared decision-making responsibility.

Applicants will also be evaluated on the extent to which the above information is provided with regard to consultants or staff from other organizations proposed to work on the project.

Objectives and Need for Assistance (10 Points)

An application will be evaluated on the extent to which it demonstrates that the organization is established and has well-developed connections to and working relationships with the non-profit community in the geographic area they propose to serve.

(a) Service Area (2 Points): An application will be evaluated on the extent to which the applicant identifies the specific service area for project implementation. Applicants or their partners must demonstrate a prior history of involvement in and connectedness to the proposed service area to ensure that the impact of services provided is local and sustained.

(b) Needs of Service Area (4 Points): An application will be evaluated on the extent to which it describes the specific needs of the targeted service area. Applications will be evaluated on the extent to which documentation is provided which demonstrates that the proposed project will be implemented in a distressed community, engages organizations that serve low-income populations, and addresses a vital need in a distressed community.

(c) Needs of Non-profits in Service Area (2 Points): An application will be evaluated on the extent to which it describes the capacity-building needs of non-profit organizations in their proposed service area and provides documentation of those needs from third party sources as available.

(d) Project Objectives (2 Points): An application will be evaluated on the extent to which the applicant states all primary project objectives. Objectives must relate to the provision of training, technical assistance, and sub-awards to grassroots organizations to build their organizational capacity in five critical areas: (1) Leadership development, (2) organizational development, (3) programs/services, (4) funding, and (5) community engagement.

Approach (30 Points)

(a) Pre-Assessment Strategy (5 Points): An application will be evaluated on the extent to which it describes the methods, strategies, and/or tools, that will be used to provide a baseline assessment of faith-based and community organizations' capacity prior to receiving training and technical assistance from the intermediary. The pre-assessment must address all of the five critical elements of capacity building: (1) Leadership development, (2) organizational development, (3) programs/services, (4) funding, and (5) community engagement. The needs of the faith and community based organizations served should be determined by the pre-assessment, not based on the preferences or specific interests and capabilities of the intermediary organization.

(b) Training/Technical Assistance Strategy (10 Points). Applicants will be evaluated on extent to which they demonstrate their ability to provide training and technical assistance in all of the five critical elements of capacity building: (1) Leadership development, (2) organizational development, (3) programs/services, (4) funding, and (5) community engagement, either on their own or through partnerships. Applicants will be evaluated on the extent to which they describe the capacity-building activities proposed to address the needs of faith-based and community organizations served in each of the five critical areas listed above. Applicants must also propose a logical and attainable schedule for accomplishing planned activities.

Applications will be evaluated on the extent to which the outlined strategy is comprehensive, describes the process that the applicant will employ to outreach to and identify and select organizations to receive training and technical assistance, and estimates the types and number of organizations expected to receive training and technical assistance. For purposes of this program announcement, training will refer to group-based adult education and skill-building activities (e.g., workshops); technical assistance will refer to consultation that is specifically customized or tailored to the needs of particular faith-based and community organizations.

Applications will be evaluated on the extent to which training and technical assistance plans address a minimum of two (2) of the identified needs for each faith and community based organization served. A minimum of 50 percent of the technical assistance provided by intermediaries must be in the form of direct and individualized technical assistance to address the identified priority needs of the faith and community-based organization (i.e., “one-on-one” assistance to the organization's leadership, key staff and/or board).

(c) Sub-award Strategy (15 points). An application will be evaluated on the extent to which to which the applicant describes a plan for selecting sub-award recipients, describes the process that the applicant will employ to identify and select organizations to receive sub-awards; estimates the types and number of organizations expected to receive funding; and identifies the capacity building needs to which sub-awards may be used. Applicants will be evaluated on the extent to which they effectively demonstrate the following:

• Sub-award recipients will be chosen through a fair and open competitive process that includes outreach to both faith-based and community organizations.

• Sub-award recipients will not be pre-selected. The criteria for selection of sub-awardees will not include consideration of the religious nature of a group or the religious nature of the program it offers.

• Intermediary organizations will provide ongoing technical assistance and capacity-building support to the organizations to which they issue sub-awards.

• Priority for sub-awards will be given to organizations that historically have not received grants from the Federal government.

• Priority for sub-awards will be given to organizations implementing program(s) in several priority areas including: the homeless, elders in need, at-risk youth, particularly those facing the specific risk of gang influence and involvement, families in transition from welfare to work, those in need of intensive rehabilitation such as addicts or prisoners, and couples who choose marriage for themselves, to develop the skills and knowledge to form and sustain healthy marriages.

• Intermediaries will not require sub-award applicants to provide matching funds or give them a preference in the selection process if they offer matching funds in their applications.

• Intermediaries will not require sub-award applicants to have 501(c)(3) status or to identify a sponsoring organization with 501(c)(3) status.

• Organizations that partner with an intermediary to deliver technical assistance or provide cost-sharing funds for the proposed project will not to be eligible for sub-awards, unless approved by the Administration for Children and Families (ACF).

• Sub-awards will be in amounts manageable for a small organization.

• Intermediaries will not provide recipients of a CCF sub-award a second sub-award for the same purpose for the duration of the grant.

• Intermediaries will inform sub-awardees that their activities are governed by all applicable Federal laws and regulations including those in 45 CFR 87.1, which state that direct Federal grants, sub-award funds, or contracts under the Compassion Capital Fund Demonstration Program shall not be used to support inherently religious activities such as religious instruction, worship, or proselytization.

• The central focus of an intermediary proposed sub-award concept will be capacity-building activities that further the sustainability of sub-awardees' social service efforts. Sub-awards will be used to assist organizations in differing stages of development. For example, funds may be provided to fledgling organizations to improve their basic functions, such as attaining 501(c)(3) status or developing sound financial systems.

• Sub-awards will not be used to provide direct services, but rather improve the sub-awardee's efficiency and capacity.

Evaluation (20 Points)

(a) Evaluation Design (5 Points): An applicant will be evaluated on the extent to which they include a program logic model or other illustration or narrative explanation of the relationship between proposed activities and anticipated outcomes. Applicants will be evaluated on the extent to which the evaluation design includes a process component that describes the activities of the project, how the project will operate, and the extent to which it is able to produce the expected results. Applicants will also be evaluated on the extent to which the evaluation design includes an outcome component with outcome measures. For purposes of this announcement, an outcome is defined as any benefit or change in the capacity of faith-based and community organizations after receiving services.

(b) Post-Assessment Strategy (5 Points): Applications will be evaluated on the extent to which they describe the methods, strategies, and/or tools that will be used to provide a post-assessment of an organization's capacity after receiving training and/or technical assistance from the intermediary. In particular, the post-assessment should focus on measuring the results and impact of the training, technical assistance, and where applicable, sub-award activities. The post-assessment strategy should address all of the five critical elements of capacity building: (1) Leadership development, (2) organizational development, (3) programs/services, (4) funding, and (5) community engagement, either on their own or through partnerships. Applications will also be evaluated on the extent to which they provide a plan detailing assessment intervals for faith-based and community organizations served.

(c) Data collection (2 Points): An application will be evaluated on the extent to which it describes how project data will be gathered and maintained, including pre- and post-assessment data.

(d) Analysis (6 points): An application will be evaluated on the extent to which it describes how project data will be analyzed to determine whether capacity-building activities were implemented and achieved measurable results within the organizations served.

(e) Application/Dissemination (2 Points): An application will be evaluated on the extent to which it describes how the proposed evaluation will demonstrate the effectiveness of the activities and services provided in addressing the identified capacity-building needs of faith-based and community organizations served.

Budget and Budget Justification (10 Points)

(a) Project Budget (8 points): An application will be evaluated on the extent to which it includes a budget that is clear, easy to understand, and provides a detailed justification for the amount requested. Applicants should refer to the budget information presented in the Standard Forms 424 and 424A and to the budget justification instructions in section V. General Instructions for the Uniform Project Description.

(b) Last Two Year's Years Operating Budget (2 points): Applications will be evaluated on the extent to which they include the last two years' recent operating budgets of the applicant. Detailed breakdowns of the organizational operating budget are not required. The application will be evaluated based on the extent to which the amount requested under the funding announcement is proportional to the recent size of the applicant's operating budget. For example, it would be unreasonable for an organization that operated with $100,000 in 2003 and $110,000 in 2004 to request $1 million in Federal funds.

2. Review and Selection Process

Since ACF will be using non-Federal reviewers in the review process, applicants have the option of omitting from the application copies (not the original) of specific salary rates or amounts for individuals specified in the application budget.

No grant award will be made on the basis of an incomplete application.

Applications received by the due date will be reviewed and scored competitively. Experts in the field, generally persons from outside the Federal government, will use the evaluation criteria listed in Part V of this announcement to review and score the applications. The results of this review will be a primary factor in making funding decisions. ACF may also solicit comments from Regional Office staff and other Federal agencies. ACF may consider a variety of factors in addition to the review criteria identified above, including geographic diversity/coverage and types of applicant organizations, in order to ensure that the interests of the Federal Government are met in making the final selections. Furthermore, ACF may limit the number of awards made to the same or affiliated organizations although they would serve different geographic areas. Please note that applicants that do not comply with the requirements in the section titled “Eligible Applicants” will not be included in the review process.

As stated, CCF monies must be used towards the organization's capacity-building and not for direct services. Additionally, organizations that receive CCF funds may not engage in inherently religious activities, such as worship, religious instruction, or proselytization, as part of the programs or services funded with CCF funds. If an organization conducts such inherently religious activities, the activities must be offered separately, in time or location, from the programs or services funded with CCF assistance, and participation must be voluntary for beneficiaries of the CCF-funded programs or services. In addition, an organization receiving CCF funds shall not, in providing CCF-funded services, discriminate against a program beneficiary or prospective program beneficiary on the basis of religion or religious belief.

Approved But Unfunded Applications

Applications that are approved but unfunded may be held over for funding in the next funding cycle, pending the availability of funds, for a period not to exceed one year.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Direct Federal grants, sub-award funds, or contracts under this Compassion Capital Fund Intermediary Demonstration Program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR 87.1 or the HHS Web site at http://www.os.dhhs.gov/fbci/waisgate21.pdf.

45 CFR Part 74

45 CFR Part 92

Grantees are subject to the requirements in 45 CFR part 74 (non-governmental) or 45 CFR part 92 (governmental) as well as 45 CFR part 87.

3. Reporting Requirements

Programmatic Reports: Semi-Annually.

Financial Reports: Semi-Annually.

Grantees will be required to submit program progress and financial reports (SF 269) throughout the project period. Program progress and financial reports are due 30 days after the reporting period. In addition, final programmatic and financial reports are due 90 days after the close of the project period.

Original reports and one copy should be mailed to:

Administration for Children and Families, Office of Grants Management, Division of Discretionary Grants, 370 L'Enfant Promenade, SW., Washington, DC 20447.

Grantees may be asked to participate in a national evaluation of the Compassion Capital Fund program. The program will cooperate with any research or evaluation efforts sponsored by the Administration for Children and Families (ACF).

VII. Agency Contacts

Program Office Contact

Kelly Cowles, Office of Community Services, 370 L'Enfant Promenade, SW., Suite 500 West, Aerospace Building, Washington, DC 20447-0002. Phone: (800) 281-9519. E-mail: ocs@lcgnet.com.

Grants Management Office Contact

Barbara Ziegler-Johnson, Office of Grants Management, Division of Discretionary Grants, 370 L'Enfant Promenade, SW., 4th Floor West, Aerospace Building, Washington, DC 20447-0002. Phone: (800) 281-9519. E-mail: ocs@lcgnet.com.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

Additional information about this program and its purpose can be located on the following Web sites: http://www.acf.hhs.gov/programs/ccf/.

Applicants will be sent acknowledgements of received applications.

Dated: April 25, 2005.
Josephine B. Robinson,
Director, Office of Community Services.

[FR Doc. 05-8608 Filed 4-28-05; 8:45 am]

BILLING CODE 4184-01-P